DEPARTMENT OF AGRICULTURE

Rural Housing Service

[Docket No. RHS-24-SFH-0018]

Notice of Funding Availability for the Native Community Development Financial Institution Relending Demonstration Program FY 2024

AGENCY: Rural Housing Service, USDA.

ACTION: Notice of funding availability (NOFA).

SUMMARY: The Rural Housing Service (RHS, Agency), a Rural Development (RD) agency of the United States Department of Agriculture (USDA), announces the availability of funding for applications under its Native Community Development Financial Institution (NCDFI) Relending Demonstration Program for fiscal year (FY) 2024. The purpose of this notice is to announce the opening and closing dates for receipt of applications for the NCDFI Relending Demonstration Program from eligible applicants, as well as submission requirements. These loans will be made to qualified NCDFIs to relend funds to low- and very low-income ultimate recipients to acquire, build, rehabilitate, improve, or relocate dwellings on Tribal Land in rural areas. This program has the amount of $5,000,000 available for FY 24. Applicants are responsible for any expenses incurred in developing their applications.

DATES: Completed applications must be submitted using one of the following methods:

• Paper submissions: The Agency must receive a paper application by 4:30 p.m. local time, August 9, 2024.

• Electronic submissions: Electronic applications must be submitted via email to brian.hudson@usda.gov by 11:59 p.m. Eastern time on August 9, 2024.

The Agency will not solicit or consider scoring or eligibility information that is submitted after the application deadline. The application dates and times are firm. The Agency will not consider any application received after the deadline. The Agency reserves the right to contact applicants to seek clarification information on materials contained in the submitted application.

ADDRESSES: Applicants wanting to apply for assistance may download the application documents and requirements as stated in this Notice from the NCDFI Relending Demonstration Program website: https://www.rd.usda.gov/programs-services/single-family-housing-programs/native-community-development-financial-institution-relending-demonstration-program.

Applicants may also request paper application packages from the Rural Development National Office by emailing brian.hudson@usda.gov.

Applications can be mailed or delivered to: USDA Rural Development, Washington State Office, Attention: Andria Hively, 1835 Black Lake Blvd. SW, Olympia, WA 98512.

FOR FURTHER INFORMATION CONTACT: Brian Hudson, Finance and Loan Analyst, Single Family Housing Direct Division, Special Programs and New Initiatives Branch at (608) 697-7725 (voice) (this is not a toll-free number) or brian.hudson@usda.gov.

SUPPLEMENTARY INFORMATION:

Overview

Federal Awarding Agency Name: Rural Housing Service (RHS).

Funding Opportunity Title: Native Community Development Financial Institution (NCDFI) Relending Demonstration Program.

Announcement Type: Notice of Funding Availability (NOFA).

Assistance Listing (AL) Numbers: 10.410.

Dates: Completed applications and supporting materials must be received by mail at USDA Rural Development, Washington State Office, Attention: Andria Hively, 1835 Black Lake Blvd. SW, Olympia, WA 98512 or via email at brian.hudson@usda.gov by 11:59 p.m. Eastern Time (ET) on August 9, 2024. Late or incomplete applications will not be accepted.

Rural Development Key Priorities: The Agency encourages applicants to consider projects that will advance the following key priorities (more details available at https://www.rd.usda.gov/priority-points):

• Addressing Climate Change and Environmental Justice; Reducing climate pollution and increasing resilience to the impacts of climate change through economic support to rural communities.

• Advancing Racial Justice, Place-Based Equity, and Opportunity; Ensuring all rural residents have equitable access to RD programs and benefits from RD funded projects; and

• Creating More and Better Market Opportunities; Assisting rural communities recover economically through more and better market opportunities and through improved infrastructure.

For further information, visit https://www.rd.usda.gov/priority-points.

A. Program Description

1. Purpose of the Program

The purpose of the NCDFI Relending Demonstration Program is to increase homeownership opportunities for Native American Tribes, Alaska Native Communities, and Native Hawaiian communities in rural areas. Additionally, the program will provide capital to NCDFIs; loans made to NCDFIs will be re-lent to the ultimate recipients (low- and very low-income people who will live in Indian Country and need affordable, modest single-family homes).

2. Statutory Authority

Funding is authorized pursuant to the Consolidated Appropriation Act, 2024, 42 U.S.C. 1472; Public Law 118-42; and the program is authorized by section 502 of the Housing Act of 1949 (42 U.S.C. 1472) and implemented by 7 CFR part 3550.

3. Definitions

The definitions and terms applicable to the loan process for ultimate recipients can be found at 7 CFR 3550.10 and 2 CFR part 211. Additional definitions applicable to this notice are listed below:

a. Native Community Development Financial Institution (NCDFI). An entity that has been certified as a community development financial institution by the Secretary of the Treasury; that is not less than 50 percent owned or controlled by members of Indian Tribes, Alaska Native communities, or Native Hawaiian communities; and for which not less than 50 percent of the activities of the entity serve Indian Tribes, Alaska Native communities, or Native Hawaiian communities.

b. Native Hawaiian. The term `Native Hawaiian' has the meaning given the term in section 801 of the Native American Housing Assistance and Self-Determination Act of 1996, as amended (25 U.S.C. 4221(9)).

c. Principals of NCDFI. Members, officers, directors, and other individuals or entities directly involved in the operation and management (including setting policy) of an NCDFI.

d. Tribal Land. Tribal Land includes any of the following:

(i) any land located within the boundaries of—

(A) an Indian reservation, pueblo, or rancheria; or

(B) a former reservation within Oklahoma;

(ii) any land not located within the boundaries of an Indian reservation, pueblo, or rancheria, the title to which is held—

(A) in trust by the United States for the benefit of an Indian Tribe or an individual Indian;

(B) by an Indian Tribe or an individual Indian, subject to restriction against alienation under laws of the United States; or

(C) by a dependent Indian community;

(iii) any land located within a region established pursuant to section 7(a) of the Alaska Native Claims Settlement Act, as amended (43 U.S.C. 1606(a));

(iv) Hawaiian Homelands, as defined in section 801 of the Native American Housing Assistance and Self-Determination Act of 1996, as amended (25 U.S.C. 4221(9)); or

(v) those areas or communities designated by the Assistant Secretary of Indian Affairs of the Department of the Interior that are near, adjacent, or contiguous to reservations where financial assistance and social service programs are provided to Indians because of their status as Indians.

e. Ultimate recipient. An individual that receives a mortgage loan from a NCDFI Relending Demonstration Program fund.

4. Application Awards

The Agency will review, evaluate and score applications received in response to this notice based on the provisions found in this notice. Awards under the NCDFI Relending program will be made on a competitive basis using specific selection criteria contained in this notice. The Agency advises all interested parties that expenses incurred in applying for this Notice will be borne by the applicant and are at the applicant's sole risk.

B. Federal Award Information

Type of Award: Loan.

Fiscal Year Funds: FY 2024.

Available Funds: $5,000,000.

Award Amounts: A minimum loan request of $500,000 is required. Opportunity for awards larger than $1 million will be evaluated and awarded based on program demand.

Anticipated Award Date: September 30, 2024.

Performance Period: A loan may be made by the Secretary to said applicant for a period of not to exceed thirty-three years from the making of the loan. The interest rate will be one percent. Interest and principal payments will be scheduled annually. The initial principal and interest payment will be deferred by the Agency for up to 3 years. Loan funds must be disbursed and delivered to the ultimate recipients within three years from the date of loan closing.

Renewal or Supplemental Awards: None.

Type of Assistance Instrument: Direct loan.

Approximate Number of Awards: The Agency anticipates making five to seven awards.

C. Eligibility Information

1. Eligible Applicants

Eligible entities for these competitively awarded loans include NCDFIs. Any delinquent debt to the Federal Government by the NCDFI or any principal of the NCDFI shall cause the NCDFI to be ineligible to receive any NCDFI Relending Demonstration Program loan funds as provided in 2 CFR parts 180 and 417. Agency loan funds may not be used to satisfy any such debt.

Debarment and suspension information is required in accordance with 2 CFR part 180 (OMB's Guidelines to Agencies on Governmentwide Debarment and Suspension (Nonprocurement)) supplemented by 2 CFR part 417 (Nonprocurement Debarment and Suspension), as applicable.

Non-Eligible Applicants

Applications will not be considered for funding if they do not provide enough information to determine eligibility, are not suitable for evaluation, are missing required elements as stated in this notice, or have not closed on a previously awarded NCDFI Relending Demonstration Loan. All applications submitted must meet the eligibility requirements provided in this notice and demonstrate that the loans will be made to ultimate recipients who meet the eligibility criteria in 7 CFR 3550.53 https://www.ecfr.gov/current/title-7/subtitle-B/chapter-XXXV/part-3550/subpart-B/section-3550.53.

Ultimate Recipient Eligibility

(a) NCDFI Relending Demonstration Program loan funds must be used to provide direct loans made to eligible ultimate recipients in accordance with 7 CFR part 3550. Loans from the NCDFI to the ultimate recipient using the NCDFI Relending Demonstration Program fund must be used to buy, build, rehabilitate, improve, or relocate an eligible dwelling (7 CFR 3550.52(a)) on Tribal land for use by the borrower as a permanent residence. The interest rate charged for loans made by the NCDFI to the ultimate recipient must be lower than the maximum monthly interest rate charged for a Section 502 direct loan, available in any Rural Development office. The following regulatory reference apply to loans made to ultimate recipients:

(i) Eligible costs in accordance with 7 CFR 550.52(d). If an origination fee will be charged by the NCDFI, it may not exceed the maximum `certified packaging body with an intermediary' fee listed in Handbook-1-3550, Attachment 3-A, as it appeared at the time of origination.

(ii) Loan restrictions in accordance with 7 CFR 3550.52(e).

(iii) Applicant eligibility requirements in accordance with 7 CFR 3550.53.

(iv) Calculation of income and assets in accordance with 7 CFR 3550.54.

(v) Site requirements in accordance with 7 CFR 3550.56 and must be located on Tribal lands.

(vi) Dwelling requirement in accordance with 7 CFR 3550.57.

(vii) Ownership requirements in accordance with 7 CFR3550.58.

(viii) Security requirements in accordance with 7 CFR 3550.59, except that the NCDFIs need not use Agency closing forms, and security will be vested in the NCDFI and not the Agency.

For more information on how ultimate recipient loans can be processed, the Section 502 program Handbook-1-3550 can be found online at: https://rd.usdsa.gov/resources/directives/handbooks.

2. Cost Sharing or Matching

A NCDFI that receives a loan under this section shall provide information on the use of matching funds. NCDFIs that match at least 20 percent of the amount will receive additional points.

(a) Matching funds must be in the form of cash or confirmed funding commitments. Matching funds must also be committed for a period of not less than the loan disbursement period of 3 years.

(b) In-kind contributions such as salaries, donated time and effort, real and nonexpendable personal property, or goods and services cannot be used as matching funds.

(c) The NCDFI is responsible for demonstrating that matching funds are available and committed. Matching funds may be provided by the NCDFI or a third party.

3. Discretionary Points

None.

4. Other

(a) The NCDFI must have been legally organized for a minimum of three years and indicate adequate experience. Adequate experience will be demonstrated for Applicants providing documentation indicating at least one-year of prior experience working with residential mortgage lending as of the closing date of this Notice. Applicants that do not have such experience may provide documentation regarding other related experience to effectively and efficiently manage and repay a loan through this demonstration program (e.g., staff expertise, other loan products, homeownership training, counseling and assistance, etc.) The Agency may review such information and may consider any such information to indicate adequate experience.

(b) Proposals must be structured to utilize the funds within 3 years from the date of award.

(c) A six percent reserve for bad debt or Loan Loss Reserve (LLR) will be required.

(d) Loan funds may not be used for payment of the NCDFI's administrative costs or expenses.

(e) Requests to make loans to ultimate recipients. Prior concurrence is required when a NCDFI requests a disbursement of the NCDFI Relending Demonstration Program loan funds to make a loan to an ultimate recipient. The request for Agency concurrence in approval of a proposed loan to an ultimate recipient must include:

(i) A certification by the NCDFI that:

(A) The proposed ultimate recipient is eligible for the loan;

(B) The proposed loan is for eligible purposes;

(C) The proposed loan complies with all applicable statutes and regulations;

(ii) Copies of sufficient material from the ultimate recipient's application and the NCDFI's related files, to allow the Agency to determine the:

(A) Name and address of the ultimate recipient;

(B) Loan purposes;

(C) Interest rate and term; and

(D) Confirmation of matching funds.

(f) NCDFI Relending Program Loan Servicing Requirements. Servicing requirements are as follows:

Quarterly and semiannually reports are due 30 days after the end of the period (quarter or semi-annual as described below).

Reports will be required quarterly during the first year after loan closing and, if all loan funds are not utilized during the first year, quarterly reports will be continued until at least 90 percent of the Agency loan funds have been advanced to ultimate recipients. Thereafter, reports will be required semiannually. Also, the Agency may require quarterly reports if the intermediary becomes delinquent in repayment of its loan or otherwise fails to fully comply with the provisions of its work plan or Loan Agreement, or the Agency determines that the NCDFI Relending Demonstration Program fund is not adequately protected by the current sound worth and paying capacity of the ultimate recipients.

These reports shall contain information on the NCDFI Relending Demonstration Program loan fund, and when other funds are included, the NCDFI Relending Demonstration Program portion of the report shall be segregated from the other sections.

The reports will be collected on a form provided by the Agency and must include information on the NCDFI Relending Demonstration Program lending activity, income and expenses, financial condition and a summary of names and characteristics of the ultimate recipients the NCDFI has financed. When other funds are included in the reports, the NCDFI Relending Demonstration portion of the report shall be segregated from the other sections.

(g) Loan Closing Information

The selected NCDFI will be issued a Letter of Conditions and be required to Complete Form RD 1942-46, “Letter of Intent to Meet Conditions”, as applicable. Conditions may include but are not limited to completion of:

Form SF 3881, “ACH Vendor Payment Enrollment Form”

Form SF 270, “Request for Advance or Reimbursement”

HUD Form 935.2, “Affirmative Fair Housing Marketing Plan”

Form RD 400-8, “Compliance Review”

The selected NCDFI will execute Form RD 1940-1, “Request for Obligations of Funds” prior to obligation.

The NCDFI will work with USDA to prepare all necessary documents to close and secure the loan subject to USDA review and concurrence.

The NCDFI will be required to execute a Loan Agreement, Security Agreement, Promissory Note, and Deposit Agreement at closing. These items are available for review at https://www.rd.usda.gov/programs-services/single-family-housing-programs/native-community-development-financial-institution-relending-demonstration-program.

A Financing Statement under the Uniform Commercial Code will be filed against the NCDFI Relending Demonstration Program loan funds account.

All applications submitted must meet the eligibility in this notice and demonstrate the loans will be made to ultimate recipients who meet the eligibility criteria in 7 CFR 3550.53.

D. Application and Submission Information

1. Address To Request Application Package

Entities wishing to apply for assistance may acquire the application documents described in this Notice from the NCDFI Relending Demonstration Program website: https://www.rd.usda.gov/programs-services/single-family-housing-programs.

Applicants may also request paper application packages from the Rural Development National Office by emailing brian.hudson@usda.gov.

2. Content and Form of Application Submission.

(a) If the applicant is ineligible or the application is incomplete, the Agency will inform the applicant in writing of the decision, reasons therefore, and its appeal rights and no further evaluation of the application will occur.

(b) The Agency requires the following information to make an eligibility determination:

(i) A completed Standard Form (SF)-424, “Application for Federal Assistance.”

(ii) A written work plan to demonstrate the feasibility of the NCDFI's ability to meet the objectives of this notice. The plan must, at a minimum:

(A) Documentation demonstrating the NCDFI's ability to administer NCDFI Relending Demonstration Program funds in accordance with the provisions of this notice. To adequately demonstrate the ability to administer the program, the NCDFI must provide a complete listing of all personnel responsible for administering this program along with a statement of their qualifications and experience. The personnel may be either members or employees of the NDCFI's organization or contract personnel hired for this purpose. If the personnel are to be contracted for, the contract between the NCDFI and the entity providing such service will be submitted for Agency review, and the terms of the contract and its duration must be sufficient to adequately service the Agency loan through to its ultimate conclusion. If the Agency determines the personnel lack the necessary expertise to administer the program, the loan request will not be approved;

(B) Documentation demonstrating the NCDFI's ability to commit financial resources under the control of the NCDFI to the establishment of NCDFI Relending Demonstration Program. This should include a statement of the sources of non-Agency funds for administration of the NCDFI's operations and financial assistance for projects;

(C) Documentation demonstrating a need for loan funds and project the number of ultimate recipients to be assisted. As a minimum, the NCDFI should identify a sufficient number of proposed and known ultimate recipients it has on hand to justify Agency funding of its loan request, or include well developed targeting criteria for ultimate recipients consistent with the NCDFI's mission and strategy for NCDFI Relending Demonstration Program, along with supporting statistical or narrative evidence that such prospective recipients exist in sufficient numbers to justify Agency funding of the loan request;

(D) Documentation demonstrating the NCDFI's plan (specific loan purposes) for relending the loan funds. The plan must be of sufficient detail to provide the Agency with a complete understanding of what the NCDFI will accomplish by lending the funds to the ultimate recipient and the complete mechanics of how the funds will get from the NCDFI to the ultimate recipient. The service area, eligibility criteria, loan purposes, fees (the origination fee may not exceed the maximum `certified packaging body with an intermediary' fee listed in Handbook-1-3550, Attachment 3-A), rates (the proposed rate must be below the monthly Section 502 Program interest rate, available at any rural development office), terms (must be in accordance with the requirements provided at 7 CFR 3550.53), collateral requirements, limits, priorities, application process, method of disposition of the funds to the ultimate recipient, monitoring of the ultimate recipient's accomplishments, and reporting requirements by the ultimate recipient's management must be addressed by the NCDFI's relending plan;

(E) Documentation providing a set of goals, strategies, and anticipated outcomes for the NCDFI's program. Outcomes should be expressed in quantitative or observable terms such as the number of homeowners assisted, and the number of homes financed, and should relate to the purpose of NCDFI Relending Demonstration Program; and

(F) Documentation providing specific information as to whether and how the NCDFI will ensure that technical assistance is made available to ultimate recipients and potential ultimate recipients. Describe the qualifications of the technical assistance providers, the nature of technical assistance that will be available, and expected and committed sources of funding for technical assistance. If other than the NCDFI itself, describe the organizations providing such assistance and the arrangements between such organizations and the NCDFI.

(iii) A pro forma balance sheet at start-up and projected balance sheets for at least 3 additional years; financial statements for the last 3 years, or from inception of the operations of the NCDFI if less than 3 years; and projected cash flow and earnings statements for at least 4 years supported by a list of assumptions showing the basis for the projections. Principal repayment on the NCDFI Relending Demonstration Program loan will not be scheduled during the first 3 years, thus the projections for the NCDFI Relending Demonstration Program fund must extend to include a year with a full annual installment on the NCDFI Relending Demonstration Program loan.

(iv) Statement of compliance with 2 CFR part 200 and last financial audit report.

(v) An agreement on a form provided by the Agency (Form RD 400-4, “Assurance Agreement,” and Form RD 400-1, “Equal Opportunity Agreement”) assuring compliance with Title VI of the Civil Rights Act of 1964.

(vi) Complete organizational documents, including documents such as certificate of CDFI status, certificate of good standing, by-laws and articles of incorporation, and evidence of authority to conduct the proposed activities.

(vii) A form provided by the Agency (Form RD 1910-11, “Applicant Certification Federal Collection Policies for Consumer or Commercial Debts”) in which the applicant certifies its understanding of the Federal collection policies for consumer or commercial debts.

(viii) A statement on a form provided by the Agency (Exhibit A-1 of RD Instruction 1940-Q) regarding lobbying.

3. System for Award Management and Unique Entity Identifier

(a) At the time of application, each applicant must have an active registration in the System for Award (SAM) before submitting its application in accordance with 2 CFR part 25. To register in SAM, entities will be required to obtain a Unique Entity Identifier (UEI). Instruction for obtaining the UEI are available at https://sam.gov/content/entity-registration.

(b) Applicants must maintain an active SAM registration, with current, accurate and complete information, at all times during which it has an active Federal award or an application under consideration by a Federal awarding agency.

(c) Applicant must ensure they complete the Financial Assistance General Certifications and Representations in SAM.

(d) Applicants must provide a valid UEI in its application, unless determined exempt under 2 CFR 25.110.

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times

Completed applications must be submitted using one of the following methods:

• Paper submissions: The Agency must receive a paper application by 4:30 p.m. local time, August 9, 2024. Applications can be mailed or delivered to: USDA Rural Washington State Office, Attention: Andria Hively, 1835 Black Lake Blvd. SW, Olympia, WA 98512.

• Electronic submissions: Electronic applications must be submitted via email to brian.hudson@usda.gov by 11:59 p.m. Eastern time on August 9, 2024.

The Agency will not solicit or consider scoring or eligibility information that is submitted after the application deadline. The application dates and times are firm. The Agency will not consider any application received after the deadline. The Agency reserves the right to contact applicants to seek clarification information on materials contained in the submitted application.

5. Intergovernmental Review

Intergovernmental Review under Executive Order 12372 is not required for this program.

6. Funding Restrictions

Expenses incurred in developing applications will be at the applicant's cost.

7. Other Submission Requirements

None.

8. Other Federal Statutes

The applicant must certify to compliance with other Federal Statutes and regulations by completing the Financial Assistance General Certification and Representations in SAM, including, but not limited to the following:

(a) 7 CFR part 15, subpart A—Nondiscrimination in Federally Assisted Programs of the Department of Agriculture—Effectuation of Title VI of the Civil Rights Act of 1964. Civil Rights compliance includes, but is not limited to the following:

(i) Collect and maintain data provided by ultimate recipients on race, sex, and national origin and ensure that ultimate recipients collect and maintain this data.

(ii) Race and ethnicity data will be collected in accordance with Office of Management and Budget (OMB) Federal Register Notice, “Revisions of the Standards for the Classification of Federal Data on Race and Ethnicity” (published October 30, 1997, at 62 FR 58782); Sex data will be collected in accordance with Title IX of the Education Amendments of 1972. These items should not be submitted with the application but should be available upon request by RD.

(b) The applicant and the ultimate recipient must comply with Title VI of the Civil Rights Act of 1964, Title IX of the Education Amendments of 1972, the Americans with Disabilities Act (ADA), Section 504 of the Rehabilitation Act of 1973, the Age Discrimination Act of 1975, Executive Order 12250, and 7 CFR part 1901, subpart E.

(c) 2 CFR parts 200 and 400 (Uniform Administrative Requirements, Cost Principles and Audit Requirements for Federal Awards), or any successor regulation.

(d) Executive Order 13166, “Improving Access to Services for Persons with Limited English Proficiency.” For information on limited English proficiency and agency-specific guidance, go to https://www.lep.gov/.

(e) Federal Obligation Certification on Delinquent Debt. Risk Review: RD may request additional documentation from selected applicants in order to evaluate the financial, management, and performance risk posed by awardees as required by 2 CFR 200.206. Based on this risk review, RD may apply special conditions that correspond to the degree of risk assessed.

E. Application Review Information

1. Criteria

All eligible and complete applications will be evaluated and scored based on the selection criteria contained in this notice. Failure to address any of the application criteria by the application deadline will result in the application being determined ineligible, and the application will not be considered for funding.

For applicants meeting all the eligibility, application and submission requirements, the Rural Development National Office will use criteria in accordance with this notice as selection for the loan recipients. Each application and its accompanying statement of activities will be evaluated and, based solely on the information contained in the application, the applicant's proposal will be numerically rated on each criterion within the range provided. The highest-ranking applicant(s) will be selected based on the following criteria:

a. Years of experience in residential mortgage lending:

(i) Less than one: 0 points.

(ii) 1-2: 1 point.

(iii) 3: 2 points.

(iv) 4-5: 3 points.

(v) More than 5: 4 points.

b. Years of experience in servicing residential mortgage loans:

(i) Less than one: 0 points.

(ii) 1-2: 1 point.

(iii) 3: 2 points.

(iv) 4-5: 3 points.

(v) More than 5: 4 points.

c. Years of experience managing a loan fund:

(i) Less than one: 0 points.

(ii) 1-2: 1 point.

(iii) 3: 2 points.

(iv) 4-5: 3 points.

(v) More than 5: 4 points.

d. Years of experience managing federal funds:

(i) Less than one: 0 points.

(ii) 1-2: 1 point.

(iii) 3: 2 points.

(iv) 4-5: 3 points.

(v) More than 5: 4 points.

e. Matching funding:

(i) Less than 20% 0 points.

(ii) More than 20%-40% 1 point.

(iii) More than 40%-60% 2 points.

(iv) More than 60%-80% 3 points.

(v) More than 80%-100% 4 points.

2. Review and Selection Process

The Agency reserves the right to offer the applicant less than loan funding requested. Rural Development National Office will utilize the following threshold project selection criteria for applicants in accordance with this notice.

(a) Providing a financially feasible program for single family residential mortgage lending, which will result in affordable housing for very low- and low-income persons.

(b) Serving Tribal Land's in an eligible rural area with housing for households of very low- and low-income.

(c) Being an eligible applicant as defined in this notice.

(e) Submitting a complete application as outlined in this notice.

(f) Scoring Criteria.

3. Anticipated Announcement and Federal Award Dates

September 30, 2024.

F. Federal Award Administration Information

1. Federal Award Notices

Successful applicants will receive notification for funding from the USDA Rural Development National Office. Applicants must comply with all applicable statutes and regulations before the loan award will be obligated. The Agency will notify; in writing, applicants whose applications have been selected for funding. At the time of notification, the Agency will advise the applicant what further information and documentation is required along with a timeline for submitting the additional information. If the Agency determines it is unable to select the application for funding, the applicant will be informed in writing. Such notification will include the reasons the applicant was not selected. The Agency will advise applicants, whose applications did not meet eligibility and/or selection criteria, of their review rights or appeal rights in accordance with 7 CFR 3550.4.

2. Administrative and National Policy Requirements

The loan recipient must include the required nondiscrimination statements in any of their advertisements and brochures. The loan recipient will be required to collect and maintain data provided by the ultimate recipients on race, sex, and national origin and ensure recipients collect and maintain this data. Race and ethnicity data will be collected in accordance with OMB Federal Register notice, “Revisions to the Standards for the Classification of Federal Data on Race and Ethnicity,” (62 FR 58782), October 30, 1997. Data on recipients' sex will be collected in accordance with Title IX of the Education Amendments of 1972. These items should not be submitted with the application but should be available upon request by the Agency.

3. Reporting

Performance reporting, including applicable forms, narratives, and other documentation, are to be completed and submitted in accordance with the provisions of this notice and the Agreements referenced in the `other' section of this notice. Further, all grantees must submit audited financial statements in accordance with 2 CFR part 200, subpart F, if applicable, or financial information covering the defined period of performance as outlined in this notice and the Agreements referenced in the `other' section of this notice.

G. Federal Awarding Agency Contacts

Applicants wanting to apply for assistance may download the application documents and requirements as stated in this Notice from the NCDFI Relending Demonstration Program website: https://www.rd.usda.gov/programs-services/single-family-housing-programs/native-community-development-financial-institution-relending-demonstration-program.

Applicants may also request paper application packages from the Rural Development National Office by emailing brian.hudson@usda.gov.

H. Other Information

1. Paperwork Reduction Act

RHS has concluded that the reporting requirements contained in this NOFA will involve less than 10 persons and does not require an approval under the provisions of the Act. In accordance with the Paperwork Reduction Act of 1995, (44 U.S.C. 3501 et seq.), OMB must approve all collection of information as a requirement for “answers to * * * identical reporting or recordkeeping requirements imposed on ten or more persons * * *.” (44 U.S.C. 3502(3)(A).)

2. National Environmental Policy Act

All recipients under this Notice are subject to the requirements of 7 CFR part 1970 available at: https://rd.usda.gov/resources/environmental-studies/environmental-guidance and must comply in accordance with 7 CFR 3550.5 as noted below.

3. Federal Funding Accountability and Transparency Act

All applicants, in accordance with 2 CFR part 25, must be registered in SAM and have a UEI number as stated in Section D.3, of this notice. All recipients of Federal financial assistance are required to report information about first-tier sub-awards and executive total compensation in accordance with 2 CFR part 170.

4. Civil Rights Requirements

The applicant and the ultimate recipient must comply with Title VI of the Civil Rights Act of 1964, Title IX of the Education Amendments of 1972, Americans with Disabilities Act (ADA), Section 504 of the Rehabilitation Act of 1973, Age Discrimination Act of 1975, Executive Order 12250, Executive Order 13166 regarding Limited English Proficiency (LEP), and 7 CFR part 1901, subpart E.

5. Non-Discrimination Statement

In accordance with Federal civil rights law and U.S. Department of Agriculture (USDA) civil rights regulations and policies, USDA, its Mission Areas, agencies, staff offices, employees and institutions participating in or administering USDA programs are prohibited from discrimination based on race, color, national origin, religion, sex, gender identity, (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; or the 711 Federal Relay Service.

To file a program discrimination complaint, the complainant should complete the USDA Program Discrimination Complaint Form AD-3027 (PDF), which can be obtained online at: https://www.usda.gov/oascr/how-to-file-a-program-discrimination-complaint, from any USDA office, by calling (866) 632-9992 or by writing a letter addressed to USDA. The letter must contain the complainant's name, address, telephone number and a written description of the alleged discriminatory action in sufficient detail to inform the Assistant Secretary for Civil Rights (ASCR) about the nature and date of the alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Joaquin Altoro,
Administrator, Rural Housing Service.

[FR Doc. 2024-14353 Filed 6-28-24; 8:45 am]

BILLING CODE 3410-XV-P